DEPARTMENT OF AGRICULTURE

Forest Service

Supplement to the Final Environmental Impact Statement for the Huckleberry Land Exchange, Mt. Baker-Snoqualmie National Forest, Skagit, Snohomish, King, Pierce, Lewis, Kittitas, and Cowlitz Counties, Washington

AGENCY: Forest Service, USDA.

ACTION: Notice of intent to prepare a supplemental environmental impact statement.

SUMMARY: The USDA Forest Service will prepare a supplement to the final environmental impact statement for the Huckleberry Land Exchange. The supplemental EIS is intended to meet the May 19, 1999 order of the United States Court of Appeals for the Ninth Circuit, as remanded back to the Forest Service by United States District Court on October 12, 1999 (No. C97-786WD and C97-803WD, 9th Cir. No. 98-35043). Further analysis will be done to address specific issues raised by the Court of Appeals.

DATES: Any comments concerning the analysis should be received, in writing, by April 17, 2000 to be most useful. See below for information on estimated dates for release of the supplemental draft environmental impact statement and public comment period.

ADDRESSES: Send written comments to John Phipps, Forest Supervisor, 21905—64th Avenue West, Mountlake Terrace, WA 98043.

FOR FURTHER INFORMATION CONTACT: Everett White, Washington Lands Adjustment Team Leader, Forest Supervisor's Office. Phone: (425) 744-3442. Email: ewhite01@fs.fed.us.

SUPPLEMENTARY INFORMATION: In July 1991, the USDA Forest Service and Weyerhaeuser Company signed a Statement of Intent to enter into a land exchange involving lands in the Huckleberry Mountain area and other areas within the boundaries of the Mt. Baker-Snoqualmie National Forest. Scoping and public involvement was initiated in June 1994; a draft environmental impact statement (DEIS) was released in July 1996. After a public comment period, a final EIS and concurrent Record of Decision (ROD) was issued in November 1996. The ROD called for implementation of the exchange through a modification of Alternative 3, as analyzed in the FEIS.

The decision was appealed (pursuant to 36 CFR part 215) in early 1997. The three appeals were denied in early March 1997.

In late March 1997, pursuant to the ROD, the Forest Service and Weyerhaeuser Company executed an exchange agreement: Weyerhaeuser conveyed to the United States 30,253 acres of land in and around the Mt. Baker-Snoqualmie National Forest in return for 4,362 acres of land in the Huckleberry Mountain area. In addition, Weyerhaeuser donated to the United States 962 acres for addition to the Alpine Lakes Wilderness and 1,034 acres for addition to the National Forest System outside the Wilderness.

In the spring of 1997, two complaints were filed in the federal district court, seeking declaratory and injunctive relief to halt the Huckleberry Land Exchange. The district court consolidated the two actions and granted Weyerhaeuser's motion to intervene. In December, 1997, the district court concluded the agency had met all applicable laws and denied the plaintiff's motion.

Plaintiffs did not seek a stay of the district court's order pending appeal, but appealed to the Ninth Circuit Court of Appeals the district court's decision regarding their claims under the National Environmental Protection Act (NEPA) and the National Historic Preservation Act (NHPA).

Because there was no stay, the exchange was finalized on March 12, 1998. Weyerhaeuser initiated timber harvest on the lands the company acquired.

On May 19, 1999, the Ninth Circuit Court reversed the decision of the district court in several areas and remanded the case back to the district court with directions that it remand to the Forest Service for further proceedings under NEPA and NHPA consistent with the opinion. The Ninth Circuit Court also enjoined any further management activities on the land until the Forest Service satisfies the NEPA and NHPA obligations it identified. In response, the Forest Service has decided to prepare a supplemental environmental impact statement.

The SEIS will display the original alternatives (including no action); the modified Alternative 3, selected in the 1996 ROD; and three new alternatives: the two alternatives ordered by the Ninth Circuit Court of Appeal (purchase and deed restrictions) and an alternative that would include fewer acres exchanged. The SEIS will not address any exchange parcels that were not analyzed in the 1996 EIS. The SEIS will disclose the direct, indirect, and cumulative effects of the alternatives. Past, present, and projected activities on both private and National Forest system lands will be considered.

The original issues will guide the analysis, along with the issues raised by the Court of Appeals.

No scoping meetings are planned (40 CFR 1502.9(c)(4)). Comments received in response to this solicitation, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within 30 days.

The draft SEIS is expected to be filed in July 2000. Following release of the Draft SEIS, there will be a 45-day public comment period from the date the Environmental Protection Agency published the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement (Reviewers may wish to refer to the Council on Environmental Quality Regulations for implementing the procedural provisions of the National Environmental Policy Act at 40 CFR 1503.3 in addressing these points.)

The final SEIS is scheduled to be completed in December 2000. In the final SEIS, the Forest Service will respond to comments received (during the comment period) that pertain to the environmental consequences discussed in the draft SEIS, and applicable laws, regulations, and policies considered for this proposal. The lead agency is the Forest Service; the Forest Supervisor of the Mt. Baker-Snoqualmie National Forest is the responsible official. The responsible official will document the decision and the rationale for the decision in the Record of Decision. That decision will be subject to Forest Service appeal regulations 36 CFR part 215.

Dated: March 7, 2000.
Mary E. Wells,
Acting Forest Supervisor.

[FR Doc. 00-6903 Filed 3-20-00; 8:45 am]

BILLING CODE 3410-11-M